DEPARTMENT OF COMMERCE

International Trade Administration

Notice of Establishment of the United States-Turkey Business Council and Request for Applicants for Appointment to the United States Section

AGENCY: International Trade Administration, Department of Commerce.

ACTION: Notice.

SUMMARY: In December 2009, the Governments of the United States and Turkey agreed to establish a U.S.-Turkey Business Council. This notice announces the opportunity for appointment as private sector members to the U.S. Section of the Council.

DATES: Applications should be received no later than July 22, 2010.

ADDRESSES: Please send applications to Kristin Najdi, Senior International Trade Specialist, Office of Europe, U.S. Department of Commerce, either by e-mail at Kristin.Najdi@trade.gov or by mail to U.S. Department of Commerce, 1401 Constitution Avenue, NW., Room 3319, Washington, DC 20230.

FOR FURTHER INFORMATION CONTACT: Kristin Najdi, Senior International Trade Specialist, Office of Europe, U.S. Department of Commerce, telephone: 202-482-4915. Additional information, including the Terms of Reference, can be found at http://www.trade.gov/mac/terms-of-reference-us-turkey-business-council.asp.

SUPPLEMENTARY INFORMATION: The Under Secretary for International Trade of the U.S. Department of Commerce and the Undersecretary for Foreign Trade of the Undersecretariat of the Prime Ministry for Foreign Trade of Turkey will co-chair the U.S.-Turkey Business Council, pursuant to the Terms of Reference signed on May 25, 2010, by the U.S. and Turkish Governments, which set forth the objectives and structure of the Council. The Terms of Reference may be viewed at: http://www.trade.gov/mac/terms-of-reference-us-turkey-business-council.asp.

The Council is intended to facilitate the exchange of information and encourage bilateral discussions of business and economic issues, including promoting bilateral trade and investment and improving the business climate in each country. The Council is intended to bring together the respective business communities of the United States and Turkey to discuss such issues of mutual interest and to communicate their joint recommendations to the U.S. and Turkish Governments. The Council will consist of the U.S. and Turkish co-chairs and a Committee comprised of private sector members. The Committee will be composed of two Sections of private sector members, a U.S. Section and a Turkish Section, each of which shall have approximately ten to twelve members, representing the views and interests of their respective private sector business communities. Each government will appoint the members to its respective Section. It is intended that the Committee will provide joint recommendations to the two governments that reflect private sector views, needs, and concerns regarding creation of an environment in which the private sectors of both countries can partner, thrive, and enhance bilateral commercial ties that could form the basis for expanded trade and investment between the United States and Turkey.

The Department of Commerce is currently seeking candidates to apply for membership on the U.S. Section of the Council. Each candidate must be a senior-level executive of a U.S.-owned or controlled company that is incorporated in and has its main headquarters located in the United States and that is currently doing business in Turkey. Each candidate also must be a U.S. citizen, or otherwise legally authorized to work in the United States, and be able to travel to Turkey and locations in the United States to attend official Council meetings, as well as U.S. Section and Committee meetings. In addition, the candidate may not be a registered foreign agent under the Foreign Agents Registration Act of 1938, as amended.

Evaluation of applications for membership in the U.S. Section by eligible individuals will be based on the following criteria:

—A demonstrated commitment by the individual's company to the Turkish market either through exports or investment.

—A demonstrated strong interest in Turkey and its economic development.

—The ability to offer a broad perspective on the business environment in Turkey, including cross-cutting issues that affect the entire business community.

—The ability to initiate and be responsible for activities in which the Council will be active.

Members will be selected on the basis of who will best carry out the objectives of the Council as stated in the Terms of Reference establishing the U.S.-Turkey Business Council. In selecting members of the U.S. Section, the Department of Commerce will also seek to ensure that the Section represents a diversity of business sectors and geographical locations, as well as a cross-section of small, medium, and large-sized firms.

U.S. members will receive no compensation for their participation in Council-related activities. They shall not be considered as special government employees. Individual private sector members will be responsible for all travel and related expenses associated with their participation in the Council, including attendance at Committee and Section meetings. Only appointed members may participate in official Council meetings; substitutes and alternates may not be designated. Members will normally serve for two-year terms, but may be reappointed.

To be considered for membership, please submit the following information as instructed in the ADDRESSES and DATES captions above:

—Name(s) and title(s) of the individual(s) requesting consideration.

—Name and address of company's headquarters.

—Location of incorporation.

—Size of the company.

—Size of the company's export trade, investment, and nature of operations or interest in Turkey.

—A brief statement of why the candidate should be considered, including information about the candidate's ability to initiate and be responsible for activities in which the Council will be active.

Applications will be considered as they are received. All candidates will be notified of whether they have been selected.

Dated: June 21, 2010.
Jay Burgess,
Director of the Office of European Country Affairs (OECA).

[FR Doc. 2010-15380 Filed 6-24-10; 8:45 am]

BILLING CODE 3510-DA-P